DEPARTMENT OF DEFENSE

Department of the Army

Board of Visitors, United States Military Academy (USMA)

AGENCY: Department of the Army, DOD.

ACTION: Notice; correction.

SUMMARY: The notice of an open meeting scheduled for February 8, 2006 published in the Federal Register on January 13, 2006 (71 FR 2193) has added one closed session.

FOR FURTHER INFORMATION CONTACT: Lieutenant Colonel Shaun T. Wurzbach, United States Military Academy, West Point, NY 10996-5000, (845) 938-4200.

SUPPLEMENTARY INFORMATION: None.

Brenda S. Bowen,
Army Federal Register Liaison Officer.

[FR Doc. 06-1048 Filed 2-2-06; 8:45 am]

BILLING CODE 3710-08-M